DEPARTMENT OF HOMELAND SECURITY

Federal Emergency Management Agency?

[Docket ID FEMA-2019-0002; Internal Agency Docket No. FEMA-B-1935]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Lee | City of Opelika (18-04-5478P). | The Honorable Gary Fuller, Mayor, City of Opelika, 204 South 7th Street, Opelika, AL 36803. | Engineering Department, 700 Fox Trail, Opelika, AL 36803. | https://msc.fema.gov/portal/advanceSearch. | Aug. 7, 2019 | 010145
Lee | Unincorporated areas of Lee County (18-04-5478P). | The Honorable Bill English, Chairman, Lee County Board of Commissioners, P.O. Box 666, Opelika, AL 36803. | Lee County Building Department, 100 Orr Avenue, Opelika, AL 36801. | https://msc.fema.gov/portal/advanceSearch. | Aug. 7, 2019 | 010250
California: Santa Barbara | Unincorporated areas of Santa Barbara County (18-09-1861P). | The Honorable Steve Lavagnino, Chairman, Santa Barbara County Board of Supervisors, 511 East Lakeside Parkway, Santa Barbara, CA 93454. | Santa Barbara County Public Works Department, 130 East Victoria Street, Suite 200, Santa Barbara, CA 93101. | https://msc.fema.gov/portal/advanceSearch. | Sep. 5, 2019 | 060331
Colorado:
Arapahoe | City of Cherry Hills Village (19-08-0093P). | The Honorable Russell Stewart, Mayor, City of Cherry Hills Village, 2450 East Quincy Avenue, Cherry Hills Village, CO 80113. | Community Development Department, 2450 East Quincy Avenue, Cherry Hills Village, CO 80113. | https://msc.fema.gov/portal/advanceSearch. | Aug. 16, 2019 | 080013
Douglas | Town of Parker (19-08-0222P). | The Honorable Mike Waid, Mayor, Town of Parker, 20120 East Main Street, Parker, CO 80138. | Public Works Department, 20120 East Main Street, Parker, CO 80138. | https://msc.fema.gov/portal/advanceSearch. | Sep. 6, 2019 | 080310
Routt | City of Steamboat Springs (18-08-0922P). | Mr. Gary Suiter, Manager, City of Steamboat Springs, P.O. Box 775088, Steamboat Springs, CO 80477. | Planning and Community Development Department, 124 10th Street, Steamboat Springs, CO 80477. | https://msc.fema.gov/portal/advanceSearch. | Jul. 29, 2019 | 080159
Connecticut: New Haven | Town of Guilford (18-01-1576P). | The Honorable Matthew T. Hoey, III, First Selectman, Town of Guilford Board of Selectmen, 31 Park Street, Guilford, CT 06437. | Building and Engineering Department, 50 Boston Street, Guilford, CT 06437. | https://msc.fema.gov/portal/advanceSearch. | Aug. 2, 2019 | 090077
Florida:
Monroe | City of Marathon (19-04-2110P). | The Honorable John Bartus, Mayor, City of Marathon, 9805 Overseas Highway, Marathon, FL 33050. | Planning Department, 9805 Overseas Highway, Marathon, FL 33050. | https://msc.fema.gov/portal/advanceSearch. | Aug. 22, 2019 | 120681
Monroe | Unincorporated areas of Monroe County (19-04-2123P). | The Honorable Sylvia Murphy, Mayor, Monroe County Board of Commissioners, 102050 Overseas Highway, Suite 234, Key Largo, FL 33037. | Monroe County Building Department, 2798 Overseas Highway, Suite 300, Marathon, FL 33050. | https://msc.fema.gov/portal/advanceSearch. | Sep. 3, 2019 | 125129
Monroe | Unincorporated areas of Monroe County (19-04-2180P). | The Honorable Sylvia Murphy, Mayor, Monroe County Board of Commissioners, 102050 Overseas Highway, Suite 234, Key Largo, FL 33037. | Monroe County Building Department, 2798 Overseas Highway, Suite 300, Marathon, FL 33050. | https://msc.fema.gov/portal/advanceSearch. | Aug. 26, 2019 | 125129
Orange | City of Orlando (18-04-5643P). | The Honorable Buddy W. Dyer, Mayor, City of Orlando, P.O. Box 4990, Orlando, FL 32802. | Public Works Department, Engineering Division, 400 South Orange Avenue, 8th Floor, Orlando, FL 32801. | https://msc.fema.gov/portal/advanceSearch. | Aug. 27, 2019 | 120186
Osceola | Unincorporated areas of Osceola County (18-04-7431P). | The Honorable Cheryl Grieb, Chair, Osceola County Board of Commissioners, 1 Courthouse Square, Suite 4700, Kissimmee, FL 34741. | Osceola County Stormwater Department, 1 Courthouse Square, Suite 3100, Kissimmee, FL 34741. | https://msc.fema.gov/portal/advanceSearch. | Aug. 30, 2019 | 120189
Palm Beach | Unincorporated areas of Palm Beach County (19-04-2277P). | The Honorable Mack Bernard, Mayor, Palm Beach County, 360 South County Road, Palm Beach, FL 33480. | Palm Beach County Planning, Zoning and Building Department, 2300 North Jog Road, West Palm Beach, FL 33411. | https://msc.fema.gov/portal/advanceSearch. | Sep. 10, 2019 | 120192
Pasco | Unincorporated areas of Pasco County (19-04-0817P). | The Honorable Ron Oakley, Chairman, Pasco County Board of Commissioners, 8731 Citizens Drive, New Port Richey, FL 34654. | Pasco County Central Permitting Department, 8731 Citizens Drive, New Port Richey, FL 34654. | https://msc.fema.gov/portal/advanceSearch. | Sep. 3, 2019 | 120230
Polk | Unincorporated areas of Polk County (18-04-1711P). | The Honorable George Lindsey III, Chairman, Polk County Board of Commissioners, P.O. Box 9005, Drawer BC01, Bartow, FL 33831. | Polk County Land Development Division, 330 West Church Street, Bartow, FL 33830. | https://msc.fema.gov/portal/advanceSearch. | Sep. 5, 2019 | 120261
Georgia:
Liberty | City of Flemington (19-04-0357P). | The Honorable Paul Hawkins, Mayor, City of Flemington, 156 Old Sunbury Road, Flemington, GA 31313. | Liberty Consolidated Planning Commission, 100 Main Street, Suite 7520, Hinesville, GA 31313. | https://msc.fema.gov/portal/advanceSearch. | Jul. 18, 2019 | 130124
Liberty | Unincorporated areas of Liberty County (19-04-0357P). | The Honorable Donald Lovette, Chairman, Liberty County Board of Commissioners, 112 North Main Street, Hinesville, GA 31313. | Liberty County Building and Licensing Department, 112 North Main Street, Hinesville, GA 31313. | https://msc.fema.gov/portal/advanceSearch. | Jul. 18, 2019 | 130123
Montana:
Fergus | City of Lewistown (18-08-1160P). | Ms. Holly Phelps, Manager, City of Lewistown, 305 West Watson Street, Suite 3, Lewistown, MT 59457. | Planning/Community Development Department, 305 West Watson Street, Suite 3, Lewistown, MT 59457. | https://msc.fema.gov/portal/advanceSearch. | Aug. 26, 2019 | 300022
Fergus | Unincorporated areas of Fergus County (18-08-1160P). | The Honorable Ross Butcher, Presiding Officer/Commissioner, Fergus County Board of Commissioners, 712 West Main Street, Suite 210, Lewistown, MT 59457. | Fergus County Planning Department, 712 West Main Street, Suite 101, Lewistown, MT 59457. | https://msc.fema.gov/portal/advanceSearch. | Aug. 26, 2019 | 300019
North Carolina:
Edgecombe | Town of Tarboro (18-04-0633P). | The Honorable Joe W. Pitt, Mayor, Town of Tarboro, 500 Main Street, Tarboro, NC 27886. | Planning Department, 500 Main Street, Tarboro, NC 27886. | https://msc.fema.gov/portal/advanceSearch. | Sep. 5, 2019 | 370094
Edgecombe | Unincorporated areas of Edgecombe County (18-04-0633P). | The Honorable Leonard Wiggins, Chairman, Edgecombe County Board of Commissioners, 201 Saint Andrew Street, Tarboro, NC 27886. | Edgecombe County Planning Department, 201 Saint Andrew Street, Tarboro, NC 27886. | https://msc.fema.gov/portal/advanceSearch. | Sep. 5, 2019 | 370087
North Dakota:
McHenry | City of Velva (18-08-0850P). | The Honorable Jennifer Soli, Mayor, City of Velva, P.O. Box 219, Velva, ND 58790. | City Hall, 101 1st Street West, Velva, ND 58790. | https://msc.fema.gov/portal/advanceSearch. | Aug. 16, 2019 | 380051
McHenry | Township of Velva (18-08-0850P). | The Honorable James Hystad, Chairman, Township of Velva, 1920 47th Street North, Velva, ND 58790. | Township Hall, 4725 19th Avenue North, Velva, ND 58790. | https://msc.fema.gov/portal/advanceSearch. | Aug. 16, 2019 | 380310
Pennsylvania: Chester | Township of West Whiteland (18-03-2192P). | Ms. Mimi Gleason, Manager, Township of West Whiteland, 101 Commerce Drive, Exton, PA 19341. | Township Hall, 101 Commerce Drive, Exton, PA 19341. | https://msc.fema.gov/portal/advanceSearch. | Sep. 5, 2019 | 420295
South Carolina:
Charleston | Town of Sullivan's Island (19-04-1973P). | The Honorable Patrick M. O'Neil, Mayor, Town of Sullivan's Island, P.O. Box 427, Sullivan's Island, SC 29482. | Building Department, 2056 Middle Street, Sullivan's Island, SC 29482. | https://msc.fema.gov/portal/advanceSearch. | Aug. 28, 2019 | 455418
Lexington | Unincorporated areas of Lexington County (18-04-3635P). | The Honorable Scott Whetstone, Chairman, Lexington County Council, 212 South Lake Drive, Suite 601, Lexington, SC 29072. | Lexington County Administration Building, 212 South Lake Drive, Suite 401, Lexington, SC 29072. | https://msc.fema.gov/portal/advanceSearch. | Aug. 30, 2019 | 450129
Texas:
Atascosa | City of Pleasanton (19-06-0007P). | The Honorable Travis Hall, Jr., Mayor, City of Pleasanton, P.O. Box 209, Pleasanton, TX 78064. | Public Works Department, 740 East Hunt Street, Pleasanton, TX 78064. | https://msc.fema.gov/portal/advanceSearch. | Aug. 8, 2019 | 480015
Bexar | City of San Antonio (18-06-0785P). | The Honorable Ron Nirenberg, Mayor, City of San Antonio, P.O. Box 839966, San Antonio, TX 78283. | Transportation and Capitol Improvements Department, Storm Water Division, 1901 South Alamo Street, 2nd Floor, San Antonio, TX 78204. | https://msc.fema.gov/portal/advanceSearch. | Jul. 29, 2019 | 480045
Bexar | City of San Antonio (18-06-3896P). | The Honorable Ron Nirenberg, Mayor, City of San Antonio, P.O. Box 839966, San Antonio, TX 78283. | Transportation and Capitol Improvements Department, Storm Water Division, 1901 South Alamo Street, 2nd Floor, San Antonio, TX 78204. | https://msc.fema.gov/portal/advanceSearch. | Jul. 22, 2019 | 480045
Bexar | Unincorporated areas of Bexar County (18-06-2879P). | The Honorable Nelson W. Wolff, Bexar County Judge, 101 West Nueva Street, 10th Floor, San Antonio, TX 78205. | Bexar County Public Works Department, 233 North Pecos-La Trinidad Street, Suite 420, San Antonio, TX 78207. | https://msc.fema.gov/portal/advanceSearch. | Jul. 22, 2019 | 480035
Bexar | Unincorporated areas of Bexar County (18-06-3896P). | The Honorable Nelson W. Wolff, Bexar County Judge, 101 West Nueva Street, 10th Floor, San Antonio, TX 78205. | Bexar County Public Works Department, 233 North Pecos-La Trinidad Street, Suite 420, San Antonio, TX 78207. | https://msc.fema.gov/portal/advanceSearch. | Jul. 22, 2019 | 480035
Collin | City of Plano (18-06-3629P). | The Honorable Harry LaRosiliere, Mayor, City of Plano, 1520 K Avenue, Suite 300, Plano, TX 75074. | Engineering Department, 1520 K Avenue, Suite 250, Plano, TX 75074. | https://msc.fema.gov/portal/advanceSearch. | Aug. 23, 2019 | 480140
Collin | City of Plano (18-06-3759P). | The Honorable Harry LaRosiliere, Mayor, City of Plano, 1520 K Avenue, Suite 300, Plano, TX 75074. | Engineering Department, 1520 K Avenue, Suite 250, Plano, TX 75074. | https://msc.fema.gov/portal/advanceSearch. | Aug. 30, 2019 | 480140
Comal | City of New Braunfels (18-06-1899P). | The Honorable Barron Casteel, Mayor, City of New Braunfels, 550 Landa Street, New Braunfels, TX 78130. | City Hall, 550 Landa Street, New Braunfels, TX 78130. | https://msc.fema.gov/portal/advanceSearch. | Aug. 5, 2019 | 485493
Hays | City of Kyle (18-06-3039P). | Mr. Scott Sellers, Manager, City of Kyle, 100 West Center Street, Kyle, TX 78640. | City Hall, 100 West Center Street, Kyle, TX 78640. | https://msc.fema.gov/portal/advanceSearch. | Jul. 25, 2019 | 481108
Kaufman | City of Forney (18-06-3890P). | Mr. Tony Carson, Manager, City of Forney, 101 East Main Street, Forney, TX 75126. | Engineering Department, 101 East Main Street, Forney, TX 75126. | https://msc.fema.gov/portal/advanceSearch. | Aug. 30, 2019 | 480410
Smith | City of Tyler (18-06-3790P). | The Honorable Martin Heines, Mayor, City of Tyler, P.O. Box 2039, Tyler, TX 75710. | Development Center, 423 West Ferguson Street, Tyler, TX 75710. | https://msc.fema.gov/portal/advanceSearch. | Sep. 3, 2019 | 480571
Smith | City of Tyler (19-06-0647P). | The Honorable Martin Heines, Mayor, City of Tyler, P.O. Box 2039, Tyler, TX 75710. | Development Center, 423 West Ferguson Street, Tyler, TX 75710. | https://msc.fema.gov/portal/advanceSearch. | Sep. 3, 2019 | 480571
Smith | Unincorporated areas of Smith County (18-06-3790P). | The Honorable Nathaniel Moran, Smith County Judge, 200 East Ferguson Street, Suite 100, Tyler, TX 75702. | Smith County Road and Bridge Department, 1700 West Claude Street, Tyler, TX 75702. | https://msc.fema.gov/portal/advanceSearch. | Sep. 3, 2019 | 481185
Tarrant | City of Fort Worth (18-06-2091P). | The Honorable Betsy Price, Mayor, City of Fort Worth, 200 Texas Street, Fort Worth, TX 76102. | City Hall, 200 Texas Street, Fort Worth, TX 76102. | https://msc.fema.gov/portal/advanceSearch. | Jul. 5, 2019 | 480596
Tarrant | City of Grand Prairie (19-06-0321P). | The Honorable Ron Jensen, Mayor, City of Grand Prairie, P.O. Box 534045, Grand Prairie, TX 75053. | Development Center, 206 West Church Street, Grand Prairie, TX 75050. | https://msc.fema.gov/portal/advanceSearch. | Sep. 3, 2019 | 485472

[FR Doc. 2019-11938 Filed 6-7-19; 8:45 am]

BILLING CODE 9110-12-P